DEPARTMENT OF ENERGY

Federal Energy Regulatory Commission

Combined Notice of Filings # 1

June 1, 2006.

Take notice that the Commission received the following electric rate filings:

Docket Numbers: ER99-2342-009.

Applicants: Tampa Electric Company.

Description: Tampa Electric Co submits a notice of change in status of transactions affecting the generating capacity subject to its control that have occurred since its last triennial market power update.

Filed Date: 5/24/2006.

Accession Number: 20060530-0090.

Comment Date: 5 p.m. Eastern Time on Wednesday, June 14, 2006.

Docket Numbers: ER01-2460-005; ER99-3151-006; ER97-837-005.

Applicants: PSEG Lawrenceburg Energy Company, LLC; PSEG Energy Resources & Trade LLC; Public Service Electric and Gas Company.

Description: PSEG Energy Resources & Trade LLC, et al., submit a notice of change of status.

Filed Date: 5/26/2006.

Accession Number: 20060526-5111.

Comment Date: 5 p.m. Eastern Time on Friday, June 16, 2006.

Docket Numbers: ER02-2358-001.

Applicants: Visteon System, LLC.

Description: Visteon System, LLC submits an amendment to its Triennial Market Power Analysis filed 4/12/06.

Filed Date: 5/26/2006.

Accession Number: 20060526-5009.

Comment Date: 5 p.m. Eastern Time on Friday, June 16, 2006.

Docket Numbers: ER03-534-003.

Applicants: Ingenco Wholesale Power, L.L.C.

Description: Ingenco Wholesale Power, LLC submits a notice of non-material change in status.

Filed Date: 5/26/2006.

Accession Number: 20060526-5021.

Comment Date: 5 p.m. Eastern Time on Friday, June 16, 2006.

Docket Numbers: ER04-1135-001.

Applicants: Wisconsin Power & Light Company.

Description: Wisconsin Power and Light Co submits re-designated tariffs to comply with FERC Order No. 614, pursuant to the Commission's Order issued 4/26/06.

Filed Date: 5/26/2006.

Accession Number: 20060531-0048.

Comment Date: 5 p.m. Eastern Time on Friday, June 16, 2006.

Docket Numbers: ER05-1065-002.

Applicants: Entergy Services Inc.

Description: Entergy Services Inc, agent for Entergy Operating Companies, submits a compliance filing in accordance with FERC's 4/24/06 Order.

Filed Date: 5/24/2006.

Accession Number: 20060530-0061.

Comment Date: 5 p.m. Eastern Time on Wednesday, June 14, 2006.

Docket Numbers: ER06-740-002.

Applicants: Indeck Energy Services of Silver Springs, Inc.

Description: Indeck Energy Services of Silver Springs, Inc submits its second amended application for market-based rate authority.

Filed Date: 5/25/2006.

Accession Number: 20060601-0084.

Comment Date: 5 p.m. Eastern Time on Thursday, June 8, 2006.

Docket Numbers: ER06-760-000.

Applicants: North American Energy Credit and Clearing—Risk Management, LLC.

Description: North American Energy Credit and Clearing-Risk Management, LLC submits a request for authorization to withdraw its rate application and file a new revised petition at a later date.

Filed Date: 5/24/2006.

Accession Number: 20060530-0201.

Comment Date: 5 p.m. Eastern Time on Wednesday, June 14, 2006.

Take notice that the Commission received the following electric corporate filings:

Docket Numbers: EC06-125-000.

Applicants: KeySpan Corporation; National Grid plc.

Description: National Grid plc et al submits an application for authorization under Section 203 of the Federal Power Act, affidavits, exhibits, & other supporting materials in connection with the merger of National Grid and KeySpan Corp.

Filed Date: 5/25/2006.

Accession Number: 20060531-0091.

Comment Date: 5 p.m. Eastern Time on Thursday, June 15, 2006.

Take notice that the Commission received the following exempt wholesale generator filings:

Docket Numbers: EG06-52-000.

Applicants: U.S, Bank Association and Goodman, James A.

Description: U.S. National Bank Association, et al submit their notice of self-certification of exempt wholesale generator status, pursuant to section 366.7.

Filed Date: 5/22/2006.

Accession Number: 20060522-5100.

Comment Date: 5 p.m. Eastern Time on Monday, June 12, 2006.

Docket Numbers: EG06-53-000.

Applicants: Signal Hill Wichita Falls Power, L.P.

Description: Signal Hill Wichita Falls Power, LP submits its notice of self-certification of exempt wholesale generator status, pursuant to section 366.7.

Filed Date: 5/26/2006.

Accession Number: 20060530-0202.

Comment Date: 5 p.m. Eastern Time on Friday, June 16, 2006.

Take notice that the Commission received the following electric securities filings:

Docket Numbers: ES06-49-000.

Applicants: Michigan Electric Transmission Co., LLC.

Description: Michigan Electric Transmission Co LLC submits its application for authorization to issue debt securities.

Filed Date: 5/19/2006.

Accession Number: 20060524-0193.

Comment Date: 5 p.m. Eastern Time on Friday, June 9, 2006.

Take notice that the Commission received the following public utility holding company filings:

Docket Numbers: PH06-64-000.

Applicants: Milliken & Company.

Description: Milliken & Co submits Form FERC-65B Waiver Notification pursuant to section 366.4(c)(1) of the Public Utility Holding Company Act of 2005.

Filed Date: 5/17/2006.

Accession Number: 20060517-5043.

Comment Date: 5 p.m. Eastern Time on Wednesday, June 7, 2006.

Docket Numbers: PH06-66-000.

Applicants: TXU Corp.

Description: TXU Corp submits its Waiver Notification pursuant to section 366.4(c)(1) of the Public Utility Holding Company Act of 2005.

Filed Date: 5/24/2006.

Accession Number: 20060523-5051.

Comment Date: 5 p.m. Eastern Time on Wednesday, June 14, 2006.

Docket Numbers: PH06-67-000.

Applicants: Cleco Corporation.

Description: Cleco Corporation submits a petition for waiver of PUHCA of 2005.

Filed Date: 5/26/2006.

Accession Number: 20060526-5099.

Comment Date: 5 p.m. Eastern Time on Friday, June 16, 2006.

Docket Numbers: PH06-68-000.

Applicants: KeySpan Energy Corporation.

Description: KeySpan Energy Corporation submits a FERC Form-65A Exemption Notification pursuant to the PUHCA of 2005.

Filed Date: 5/30/2006.

Accession Number: 20060530-5016.

Comment Date: 5 p.m. Eastern Time on Tuesday, June 20, 2006.

Docket Numbers: PH06-69-000.

Applicants: KeySpan New England, LLC.

Description: KeySpan New England, LLC submits a FERC Form-65A Exemption Notification pursuant to the PUHCA of 2005.

Filed Date: 5/30/2006.

Accession Number: 20060530-5018.

Comment Date: 5 p.m. Eastern Time on Tuesday, June 20, 2006.

Docket Numbers: PH06-70-000.

Applicants: WPS Resources Corporation.

Description: WPS Resources Corp submits a Reservation of Rights re filing of Form FERC-65-B Waiver Notification pursuant to Orders 667 and 667-A.

Filed Date: 5/26/2006.

Accession Number: 20060601-0114.

Comment Date: 5 p.m. Eastern Time on Friday, June 16, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-8833 Filed 6-6-06; 8:45 am]

BILLING CODE 6717-01-P